DEPARTMENT OF THE INTERIOR

Bureau of Land Management

[ES-910-02-1430-LRTN]

Notice of Intent To Prepare Meadowood Planning Analysis/Environmental Assessment

AGENCY: Bureau of Land Management, Interior.

ACTION: Notice of intent.

SUMMARY: The Bureau of Land Management (BLM) will prepare a Planning Analysis/Environmental Assessment (PA/EA) to assess management alternatives for Meadowood Farm. The farm, located on Mason Neck in Fairfax County, Virginia, will be administered by the Eastern States Office, upon acquisition by BLM.

The planning effort will follow the procedures set forth in 43 CFR, Subpart 1600.

The public is invited to participate in the planning process, beginning with the identification of planning issues and criteria at a public meeting to be held on May 16, 2001. The meeting time and place will be announced.

You may also participate by sending issues and/or criteria in writing to the Bureau of Land Management, Eastern States Office, 7450 Boston Boulevard, Springfield, Virginia 22153.

Dated April 18, 2001.
Walter Rewinski,
Acting State Director.

[FR Doc. 01-10750 Filed 4-30-01; 8:45 am]

BILLING CODE 4310-6J-M